INTER-AMERICAN FOUNDATION BOARD MEETING

Sunshine Act Meeting

TIME AND DATE: January 30, 2001, 10 a.m.-3 p.m.

PLACE: 901 N. Stuart Street, Tenth Floor, Arlington, Virginia 22203.

STATUS: Open session except for the portion specified as closed session as provided in 22 CFR Part 1004.4 (f).

MATTERS TO BE CONSIDERED:

• Approval of the Minutes of the November 30, 2000, Meeting of the Board of Directors

• Interim President's Report

• Congressional Activities and Plans for Fiscal Year 2001

• Expansion of the Advisory Council

• Review of Business Sector Participation in Foundation Grants

• Presentation of the Foundation's Results System and Indicators

• Review of a Sample of Successful Closed-Out Grants

• Closed Session To Discuss Personnel Issues. Closed session as provided in 22 CFR Part 1004.4 (f)

CONTACT PERSON FOR MORE INFORMATION: Carolyn Karr, General Counsel, (703) 306-4350.

Dated: January 11, 2001.
Carolyn Karr,
General Counsel.

[FR Doc. 01-1335 Filed 1-11-01; 12:49 pm]

BILLING CODE 7025-01-P